DEPARTMENT OF COMMERCE

International Trade Administration

[C-570-096]

Aluminum Wire and Cable From the People's Republic of China: Postponement of Preliminary Determination in the Countervailing Duty Investigation

AGENCY: Enforcement and Compliance, International Trade Administration, Department of Commerce.

DATES: Applicable November 27, 2018.

FOR FURTHER INFORMATION CONTACT: Nancy Decker at (202) 482-0196, AD/CVD Operations, Enforcement and Compliance, International Trade Administration, Department of Commerce, 1401 Constitution Avenue NW, Washington, DC 20230.

SUPPLEMENTARY INFORMATION:

Background

On October 11, 2018, the Department of Commerce (Commerce) initiated the countervailing duty (CVD) investigation of aluminum wire and cable from the People's Republic of China.¹ Currently, the preliminary determination is due no later than December 17, 2018.

¹ See Aluminum Wire and Cable from the People's Republic of China: Initiation of Countervailing Duty Investigation, 83 FR 52805 (October 18, 2018).

Postponement of the Preliminary Determination

Section 703(b)(1) of the Tariff Act of 1930, as amended (the Act), requires Commerce to issue the preliminary determination in a CVD investigation within 65 days after the date on which Commerce initiated the investigation. However, section 703(c)(1)(A) of the Act permits Commerce to postpone the preliminary determination until no later than 130 days after the date on which Commerce initiated the investigation if a petitioner makes a timely request for a postponement. Under 19 CFR 351.205(e), a petitioner must submit a request for postponement 25 days or more before the scheduled date of the preliminary determination and must state the reason for the request. Commerce will grant the request unless it finds compelling reasons to deny the request.²

² See 19 CFR 351.205(e).

On November 14, 2018, Encore Wire Corporation, a petitioner in this investigation, submitted a timely request pursuant to section 703(c)(1)(A) of the Act and 19 CFR 351.205(e) to postpone fully the preliminary determination. Encore stated that the purpose of its request was to provide Commerce with sufficient time to receive and analyze the questionnaire responses of the mandatory respondents.³

³ See Letter from Encore to Commerce, “Aluminum Wire and Cable from China: Petitioner's Request for Postponement of the Preliminary Determination,” dated November 14, 2018.

In accordance with 19 CFR 351.205(e), the reason for requesting a postponement of the preliminary determination and the record does not present any compelling reasons to deny the request. Therefore, in accordance with section 703(c)(1)(A) of the Act, Commerce is postponing the deadline for the preliminary determination to February 19, 2019.⁴ Pursuant to section 705(a)(l) of the Act and 19 CFR 351.210(b)(1), the deadline for the final determination will continue to be 75 days after the date of the preliminary determination, unless postponed at a later date.

⁴ In this case, 130 days after initiation falls on February 18, 2019, a federal holiday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(l).

Dated: November 20, 2018.
Gary Taverman,
Deputy Assistant Secretary for Antidumping and Countervailing Duty Operations, performing the non-exclusive functions and duties of the Assistant Secretary for Enforcement and Compliance.

[FR Doc. 2018-25824 Filed 11-26-18; 8:45 am]

BILLING CODE 3510-DS-P